DEPARTMENT OF ENERGY

Federal Energy Regulatory Commission

[Docket Nos. ER21-1772-000, ER21-1774-000, ER21-1775-000]

PacifiCorp, Sierra Pacific Power Company, Nevada Power Company; Notice Addressing Motion for Expedited Action

On June 10, 2021, PacifiCorp, Sierra Pacific Power Company, and Nevada Power Company filed a motion requesting expedited action on pending market-based rate tariff amendments filed in the above-captioned dockets. The motion requested action no later than June 14, 2021.

Upon consideration, notice is hereby given that the Commission will not take action by today, June 14, 2021, as requested. The Commission intends to address the merits of the filings in a subsequent order.

Dated: June 14, 2021..
Kimberly D. Bose,
Secretary.

[FR Doc. 2021-13370 Filed 6-23-21; 8:45 am]

BILLING CODE 6717-01-P